DEPARTMENT OF VETERANS AFFAIRS

Notice of Availability of a Draft Environmental Impact Statement for a Replacement Veterans Affairs Medical Center, Louisville, Kentucky; Comment Period Extension

AGENCY: Department of Veterans Affairs.

ACTION: Notice of availability; Comment period extension.

SUMMARY: On October 27, 2016, the Department of Veterans Affairs (VA) published, in the Federal Register, the Notice of Availability of a Draft Environmental Impact Statement (EIS) for a Replacement VA Medical Center (VAMC) and Veterans Benefits Administration (VBA) regional office in Louisville, Kentucky, that analyzes the potential impacts of three alternatives for changes to VA's facilities in the Louisville area. Two public hearings on the Draft EIS were held in Louisville on November 15, 2016, which were attended by over 200 people. Since then, VA has received many requests from stakeholders for more time to review and analyze the document due to its size and the controversy surrounding the preferred alternative. After considering these requests and other factors, VA is extending the comment period for the Draft EIS by 30 days, from December 12, 2016 to January 11, 2017.

DATES: All comments must be submitted by January 11, 2017.

ADDRESSES: Submit written comments on the Draft EIS at www.Louisville-EIS.com, by email to LouisvilleReplacementHospitalComments@va.gov, or by regular mail to Robley Rex VAMC, Replacement VAMC Activation Team Office (Attn: Judy Williams), 800 Zorn Avenue, Louisville, KY.

FOR FURTHER INFORMATION CONTACT: Replacement VAMC Activation Team Office, 800 Zorn Avenue, Louisville, KY 40206 or by email to LouisvilleReplacementHospitalComments@va.gov.

Signing Authority: The Secretary of Veterans Affairs, or designee, approved this document and authorized the undersigned to sign and submit the document to the Office of the Federal Register for publication electronically as an official document of the Department of Veterans Affairs. Gina S. Farrisee, Deputy Chief of Staff, Department of Veterans Affairs, approved this document, for publication.

Dated: December 7, 2016.
Jeffrey Martin,
Office Program Manager, Office of Regulation Policy & Management, Office of the Secretary, Department of Veterans Affairs.

[FR Doc. 2016-29871 Filed 12-12-16; 8:45 am]

BILLING CODE 8320-01-P